DEPARTMENT OF LABOR

Employment and Training Administration

[TA-W-65,743]

Lionbridge US, Inc, Waltham, MA; Notice of Termination of Investigation

Pursuant to Section 221 of the Trade Act of 1974, as amended, an investigation was initiated on April 3, 2009 in response to a petition filed by an Oregon One Stop Operator on behalf of the workers of Lionbridge US, Inc, Waltham, Massachusetts.

Since the state official in Oregon is not a duly authorized representative of the workers in Massachusetts, the petition is deemed invalid.

Additionally, the petitioner has requested that the petition be withdrawn. Consequently, the investigation has been terminated.

Signed at Washington, DC, this 21st day of April 2009.
Richard Church,
Certifying Officer, Division of Trade Adjustment Assistance.

[FR Doc. E9-10923 Filed 5-8-09; 8:45 am]

BILLING CODE 4510-FN-P